DEPARTMENT OF HEALTH AND HUMAN SERVICES

Health Resources and Services Administration

Agency Information Collection Activities: Proposed Collection: Public Comment Request; Information Collection Request Title: Evaluation of Programs Supporting the Mental Health of the Health Professions Workforce, OMB No. 0915-xxxx—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 5, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer, at 301-594-4394.

SUPPLEMENTARY INFORMATION: When submitting comments or requesting information, please include the ICR title for reference.

Information Collection Request Title: Evaluation of Programs Supporting the Mental Health of the Health Professions Workforce, OMB No. 0915-xxxx—New.

Abstract: The Public Health Service Act and the American Rescue Plan Act of 2021 authorized three programs administered by HRSA: (1) the Health and Public Safety Workforce Resiliency Training Program (the Training Program); (2) the Promoting Resilience and Mental Health among Health Professional Workforce Program (the Workforce Program); and (3) the Health and Public Safety Workforce Resiliency Technical Assistance Center (the Technical Assistance Center). The Training Program funds resilience training activities for the health workforce in rural and underserved communities. The Workforce Program supports organizations' programs or protocols that foster resilience and wellness among the health workforce in these communities. The Technical Assistance Center provides tailored training and technical assistance to Training Program and Workforce Program awardees. The purpose of the planned evaluation is to assess the three programs with respect to their goals of promoting resiliency and mental health in the health workforce. Data collection efforts will inform HRSA leadership about the progress, costs and benefits, and impact of these efforts to support the delivery of health care in the United States.

Methods of Collection

Quantitative and qualitative de-identified data will be collected from awardees and their health care workforce. Each instrument will be administered twice over the 4-year evaluation period; once mid-way through the project period and once after the project period has ended. There will also be a one-time comparison group survey. To achieve the evaluation, the study will use the following quantitative data collection instruments:

The Healthcare Workforce Survey is a web-based survey intended to collect data on the impact and implementation of the Training Program and the Workforce Program from individuals in both programs' target populations. Respondents will only be asked questions that are relevant to their experience. The Healthcare Workforce Survey includes questions about before and after program participation to assess self-reported change.

The Fielding Tracker is an Excel-based tool that Workforce Program and Training Program awardees will help populate with information on how they distributed the Healthcare Workforce Survey (e.g., type and frequency of email communications sent to the target populations of grant-funded activities, number of individuals emailed, number of undeliverable emails received, and demographic information). It will also gather aggregated demographic information on the target population required for a non-response bias analysis (this information is not reported to HRSA elsewhere).

The Awardee Training and Services Report is an Excel-based tool that will be used to clarify how evaluators can refer to each activity Training Program and the Workforce Program grantees implemented on the Healthcare Workforce Survey so that respondents will recognize the activities. The Awardee Training and Services Report will also request key descriptive information for each activity. Each report will include pre-populated activities or training programs that have been reported to HRSA to reduce burden on the Training Program and Workforce Program awardees, while confirming, revising, or adding details, as needed.

The Health and Public Safety Workforce Resiliency Training Program Comparison Group Survey is a web-based survey intended to assess key outcomes among those in the health workforce who did not have access to Training Program-funded activities. A third-party vendor will provide the health workforce sample. Eligibility for this survey will be assessed using a brief web-based Screener. The purpose of the screener is to identify respondents with similar characteristics as the Training Program participants.

The Awardee Survey about the Technical Assistance Center is a web-based survey intended to assess the Training Program and the Workforce Program awardees' experiences with and perceptions of the impact from technical assistance provided by the Technical Assistance Center. In addition, the Awardee Survey is designed to gather details about program implementation to inform future programming.

The Awardee Cost Workbook is an Excel-based tool that will be used to conduct a cost-benefit analysis. It will be pre-populated with existing data for the Training Program and the Workforce Program awardees to verify and update as needed. Workforce Program awardees are expected to have lower response burden because they are required to report staff turnover rates through annual reporting; the Training Program awardees are not.

The Awardee Interview Guide and Organizational Assessment Interview Protocol are qualitative data collection instruments the evaluation team will use as semi-structured interview guides to understand the awardees' perspectives on challenges, lessons learned, and organizational change. The Organizational Assessment interviews will be conducted with the Workforce Program awardees, given the grant program's unique focus on organizational change. Questions will be tailored depending on the role of the interviewee, which could include the awardee project director, the manager, an external partner, and up to three workforce team members.

Need and Proposed Use of the Information: The information collected for this evaluation will enable a comprehensive evaluation of these important HRSA-funded programs to promote resiliency and improve mental health in the health workforce. The proposed data collection efforts are critical to understanding program outcomes and will inform leadership on program progress and inform future programming. Data collection will assist in the development of actionable strategies and methodologies to inform future programs, investment strategies, and ongoing workforce resiliency policy development. Data collection will align with parallel efforts across HRSA, providing previously un-collected or un-verified information critical to understanding factors related to the success of current HRSA programs. All instruments have been designed to leverage and not duplicate annual performance reporting requirements and data collected by the Technical Assistance Center.

Likely Respondents: For the Healthcare Workforce Survey, all individuals in the target population of the Training Program and Workforce Programs will be invited to complete the survey. For the Training Program Comparison Group Survey, the following types of professionals across the four census regions will be targeted: nurses, physicians, physician assistants, behavioral health providers, nursing students, medical school students and residents, and clinical social work or psychology students. For the Awardee Interviews and Awardee Training and Services Reports Form, the Training Program, Workforce Program, and Technical Assistance Center awardees will be invited to participate. For the Awardee Survey about the Technical Assistance Center and the Fielding Tracker, the Training Program and Workforce Program awardees will be asked to participate. For the Organizational Assessment Interviews, multiple types of staff at each Workforce Program awardee organization will be targeted.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Healthcare Workforce Survey | 29,359 | 1 | 29,359 | 0.25 | 7,340
The Training Program Comparison Group Screener | 180,000 | 1 | 180,000 | 0.05 | 9,000
The Training Program Comparison Group Survey | 2,600 | 1 | 2,600 | 0.17 | 442
The Training Program Awardee Cost Workbook | 34 | 1 | 34 | 5.00 | 170
Awardee Interview Guide | 44 | 1 | 44 | 1.50 | 66
Awardee Training and Services Report | 44 | 1 | 44 | 1.00 | 44
Fielding Tracker | 44 | 1 | 44 | 4.00 | 176
The Workforce Program Awardee Cost Workbook | 10 | 1 | 10 | 3.50 | 35
The Workforce Program Organizational Assessment Interview Protocol | 50 | 1 | 50 | 1.00 | 50
Awardee Survey about the Technical Assistance Center | 44 | 1 | 44 | 1.00 | 44
Total | 212,229 | 10 | 212,229 | 17.47 | 17,367

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-09599 Filed 5-4-23; 8:45 am]

BILLING CODE 4165-15-P